DEPARTMENT OF COMMERCE

National Oceanic and Atmospheric Administration

Agency Information Collection Activities; Submission to the Office of Management and Budget (OMB) for Review and Approval; Comment Request; West Coast Groundfish Trawl Economic Data

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on December 4, 2020, (85 FR 78311) during a 60-day comment period. This notice allows for an additional 30 days for public comments.

Agency: National Oceanic and Atmospheric Administration (NOAA).

Title: West Coast Groundfish Trawl Economic Data.

OMB Control Number: 0648-0618.

Form Number(s): None.

Type of Request: Regular (extension of a currently approved information collection).

Number of Respondents: 339.

Average Hours per Response: 8 hours for catcher processors, catcher vessels, and motherships, 1 hour for quota share permit owners, and 20 hours for first receivers and shorebased processors.

Total Annual Burden Hours: 2,195.

Needs and Uses: This information collection is needed in order to meet the monitoring requirements of the Magnuson-Stevens Act (MSA). In particular, the Northwest Fisheries Science Center (NWFSC) needs economic data on all harvesters, first receivers, shorebased processors, catcher processors, motherships, and quota share owners participating in the West Coast groundfish trawl fishery.

Data will be collected from all catcher vessels registered to a limited entry trawl endorsed permit, catcher processors registered to catcher processor permits, and motherships registered to mothership permits, first receivers, and shorebased processors that received round or head-and-gutted IFQ groundfish or whiting from a first receiver and owners of a quota share permit to provide the necessary information for analyzing the effects of the West Coast Groundfish Trawl Catch Share Program.

As stated in 50 CFR 660.114, the EDC forms due on September 1, 2021, will provide data for the 2020 operating year.

Affected Public: Business or other for-profit organizations; not-for-profit institutions.

Frequency: Annually.

Respondent's Obligation: Mandatory.

Legal Authority: 50 CFR 660.114.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0618.

Sheleen Dumas,
Department PRA Clearance Officer, Office of the Chief Information Officer, Commerce Department.

[FR Doc. 2021-04653 Filed 3-5-21; 8:45 am]

BILLING CODE 3510-22-P